DEPARTMENT OF HOUSING AND URBAN DVELOPMENT

Office of Federal Housing Enterprise Oversight

12 CFR Part 1750

RIN 2550-AA02

Risk-Based Capital

AGENCY: Office of Federal Housing Enterprise Oversight, HUD.

ACTION: Proposed rule; solicitation of reply comments.

SUMMARY: On April 13, 1999, the Office of Federal Housing Enterprise Oversight (OFHEO) published a notice of proposed rulemaking (NPR) entitled “Risk-Based Capital” in the Federal Register (64 FR 18083). That notice, known as NPR 2, is the second such proposal related to the development of a regulation to establish risk-based capital standards for the Federal Home Loan Mortgage Corporation (Freddie Mac) and the Federal National Mortgage Association (Fannie Mae). NPR 2 sets forth the specifications for the risk-based capital stress test, completing OFHEO's risk-based capital proposal. OFHEO has requested electronic copies of the comments on NPR2 and will post all NPR2 comments on our web site www.ofheo.gov, as soon as practicable.

In today's notice, OFHEO is soliciting reply comments in response to comments addressing the proposed rule that were submitted by the March 10, 2000, deadline. OFHEO requests that such reply comments only respond to the submitted comments, and not repeat the initial comments at length. This decision to solicit reply comments will insure that all interested parties have ample opportunity to participate in the rulemaking process by providing meaningful comment on the various technical and policy issues involved in the development of the risk-based capital regulation.

DATES: Reply comments are due on or before April 14, 2000.

ADDRESSES: Send written comments to Alfred M. Pollard, General Counsel, Office of General Counsel, Office of Federal Housing Enterprise Oversight, 1700 G Street, NW., Fourth Floor, Washington, DC 20552. Written comments may also be sent by electronic mail to RegComments@OFHEO.gov.

FOR FURTHER INFORMATION CONTACT: Patrick J. Lawler, Associate Director of Policy Analysis and Research; Eric Bruskin, Deputy Associate Director of Risk Analysis and Model Development; or David A. Felt, Associate General Counsel, Office of Federal Housing Enterprise Oversight, 1700 G Street, NW., Fourth Floor, Washington, DC 20552, telephone (202) 414-3800 (not a toll-free number). The telephone number for the Telecommunications Device for the Deaf is (800) 877-8339.

Dated: March 7, 2000.
Armando Falcon, Jr.,
Director, Office of Federal Housing Enterprise Oversight.

[FR Doc. 00-6065 Filed 3-10-00; 8:45 am]

BILLING CODE 4220-01-P